DEPARTMENT OF THE INTERIOR

National Park Service

[NPS-WASO-NAGPRA-NPS0029091; PPWOCRADN0-PCU00RP14.R50000]

Notice of Inventory Completion: Los Angeles Pierce College, Woodland Hills, CA

AGENCY: National Park Service, Interior.

ACTION: Notice.

SUMMARY: Los Angeles Pierce College has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to Los Angeles Pierce College. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to Los Angeles Pierce College at the address in this notice by December 27, 2019.

ADDRESSES: Ronald K. Faulseit, Los Angeles Pierce College, 6201 Winnetka Avenue, Woodland Hills, CA 91371, telephone (818) 610-6560, email faulserk@piercecollege.edu.

SUPPLEMENTARY INFORMATION: Notice is here given in accordance with the Native American Graves Protection and Repatriation Act (NAGPRA), 25 U.S.C. 3003, of the completion of an inventory of human remains and associated funerary objects under the control of Los Angeles Pierce College, Woodland Hills, CA. The human remains and associated funerary objects were removed from the Chatsworth and Chatsworth Cairn archeological sites (CA LAN 357 and CA LAN 21), Los Angeles, CA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by Los Angeles Pierce College's professional staff in consultation with representatives of the Santa Ynez Band of Chumash Mission Indians of the Santa Ynez Reservation, California and the Fernandeño Tataviam Band of Mission Indians, a non-federally recognized Indian group.

History and Description of the Remains

Members of the Anthropology Department of Los Angeles Pierce College have found the human remains of, at minimum, 18 individuals and 72 associated funerary objects in the Anthropology storeroom at Pierce College. Analysis of archived field notebooks and site excavation forms in our possession demonstrates that these human remains and funerary objects were collected between 1970 and 1976 during excavations directed by Robert Pence (Pierce College) and Mike McIntyre (Californian State University Northridge [CSUN]) at the Chatsworth and Chatsworth Cairn archeological sites (CA LAN 357 and CA LAN 21). The non-funerary materials collected from CA LAN 357, such as chipped stone tools, worked animal bone, and ground stone items, indicate clear prehistoric Native American affiliation, while the project notebooks and forms contain no indication that any of the items collected were of non-native origin.

CA LAN 357 is a well-documented archeological site that today is found mostly on the grounds of the Chatsworth Hills Academy in Chatsworth, CA (McIntyre 1975). It is associated with two other nearby sites, CA LAN 209 (now mostly covered by California state highway 118) and the Chatsworth Cairn site, CA LAN 21. The latter site was excavated originally by Edwin Walker in 1939, and later by McIntyre of CSUN. Today, the location consists of multiple housing developments (Raab 1986). According to Hull (2012), some of the features excavated by Walker date as early as the intermediate period (1000 B.C. to A.D. 1000), but the site is mostly a late prehistoric to historic settlement that contained both residential and ceremonial elements. The Fernandeño consider these three archeological sites as a single multi-component settlement known as Momonga, while the Chumash use the term Calucscoho. A number of rock art panels have been documented at the Chatsworth site, and the excavations by Pence, Walker, and McIntyre uncovered objects consistent with Native American occupation. An article by Sanburg et al. (1978) states:

The Chatsworth Site was occupied into historic times (Walker 1952:85; Leonard 1974), but there is some conflict as to which group, the Fernandeno or the Chumash, was associated with it. Kroeber (1925: 621) and Johnston (1966: 9, 11) consider the site to be within the Fernandeno area whose boundary with the Chumash they set a short distance to the west at the Santa Susana Pass. This has been questioned by Forbes (1966: 138) who states that the Chumash extended as far east as El Escorpion, located in the southwestern section of the San Fernando Valley and probably were found to the north all along the valley's western edge. [Sanburg et al. 1978, page 28].

Sanburg et al. (1978) conclude that the “petrographic art present at the Chatsworth Site relates well to the previously presented material from the Chumash Area.” Based on the documentary evidence, the site most likely had dual-ethnic components with either simultaneous or subsequent use or occupation. Therefore, the site holds significant ritual and ceremonial importance to both the Fernandeño and Chumash people.

During consultation, Pierce College received correspondence from the Tribal President of the Fernandeño Tataviam Band, Rudy J. Ortega Jr., citing various archeological and historic publications linking the Fernandeño Tribe to the site. Mr. Ortega's letter also included information about the Tribe's ethnic makeup, territorial boundaries, and connection to the Momonga site (CA LAN 357/CA LAN 21).

One individual was recovered from a burial at CA LAN 357 during Pence's excavations in 1970 and 1971. The human remains were found in very poor condition, with 65-70% of the skull and torso missing. Several photographs taken during the burial excavation show the bones of the lower portion (legs) of an individual in the flexed (fetal) position. According to the excavators, the individual was a middle-aged adult of undetermined sex.

One individual was recovered from the excavation of a burial during the 1972 field season. The human remains recovered are too fragmentary to allow specification of the sex, age, or stature of the individual. According to the excavators, the individual was a young adult of undetermined sex, but the excavators considered the individual to be male because of the associated objects recovered with the burial. These items, consisting mostly of hammerstone fragments and chipped stone tools, could not be located.

Four individuals are represented by solitary teeth that were recovered from excavation units during Pence's 1970s field seasons. The teeth were found in individually labeled small bags and consist of one fragment of a molar from excavation unit L28, one premolar (reg. no. 72-1202), one incisor (reg. no. 70-0787), and one maxillary canine (reg. no. 72-1199). One individual is represented by a solitary tibia fragment that is likely to have come from McIntyre's excavations of the CA LAN 21 site in 1976.

Human remains representing, at minimum, least 11 individuals were stored separately in boxes marked Series A, B, D, E-1, E-2, and T. Each box was treated as a separate burial context. Series A, B, D, and E-1 boxes contained fragmented human remains representing at least one individual each. Series E-2 box contain the fragmented human remains of at least three individuals. Series' T and K boxes contained fragmented human remains representing at least two individuals each. No known individuals were identified. The 72 associated funerary objects are 17 chipped stone scrapers, two shaped sandstone tools, six chipped stone projectile points, four chipped-stone core fragments, one rim fragment from a ground stone bowl, one small bag of ochre fragments, four sandwich bags of small animal bone fragments, three sandwich bags of chipped stone flakes and debitage, and 34 fragments of animal bones.

Determinations Made by Los Angeles Pierce College

Officials of Los Angeles Pierce College have determined that:

• Pursuant to 25 U.S.C. 3001(9), the human remains described in this notice represent the physical remains of 18 individuals of Native American ancestry.

• Pursuant to 25 U.S.C. 3001(3)(A), the 72 objects described in this notice are reasonably believed to have been placed with or near individual human remains at the time of death or later as part of the death rite or ceremony.

• Pursuant to 25 U.S.C. 3001(2), there is a relationship of shared group identity that can be reasonably traced between the Native American human remains and associated funerary objects and the Santa Ynez Band of Chumash Mission Indians of the Santa Ynez Reservation, California, and, if joined, the Fernandeño Tataviam Band of Mission Indians, a non-federally recognized Indian group.

Additional Requestors and Disposition

Lineal descendants or representatives of any Indian Tribe or Native Hawaiian organization not identified in this notice that wish to request transfer of control of these human remains and associated funerary objects should submit a written request with information in support of the request to Ronald K Faulseit, Los Angeles Pierce College, 6201 Winnetka Avenue, Woodland Hills, CA 91371, telephone (818) 610-6560, email faulserk@piercecollege.edu, by December 27, 2019. After that date, if no additional requestors have come forward, transfer of control of the human remains and associated funerary objects to the Santa Ynez Band of Chumash Mission Indians of the Santa Ynez Reservation, California, and the Fernandeño Tataviam Band of Mission Indians (if joined with the Santa Ynez Band of Chumash Mission Indians of the Santa Ynez Reservation, California) may proceed.

The Los Angeles Pierce College is responsible for notifying the Santa Ynez Band of Chumash Mission Indians of the Santa Ynez Reservation, California and the Fernandeño Tataviam Band of Mission Indians that this notice has been published.

Dated: October 8, 2019.
Melanie O'Brien,
Manager, National NAGPRA Program.

[FR Doc. 2019-25729 Filed 11-26-19; 8:45 am]

BILLING CODE 4312-52-P